DEPARTMENT OF TRANSPORTATION

Surface Transportation Board

[STB Finance Docket No. 35009]

CG Railway, Inc.—Lease and Operation Exemption—Terminal Railway Alabama State Docks

CG Railway, Inc. (CGR), a Class III rail carrier, has filed a verified notice of exemption under 49 CFR 1150.41 to acquire by lease from Terminal Railway Alabama State Docks (TASD), an agency of the State of Alabama, and to operate approximately 0.583 miles of rail line consisting of track numbers North 14 and North 15 in TASD's North Yard in Mobile, AL.¹ There are no mileposts associated with the two lines.

¹ CGR states that it will shortly enter into an agreement with TASD for the lease of the rails.

CGR certifies that its projected annual revenues as a result of this transaction will not result in the creation of a Class II or Class I rail carrier, and further certifies that its projected annual revenues from operation of the leased lines and current operations will not exceed $5 million.

The transaction is expected to be consummated on or shortly after April 26, 2007. If the verified notice contains false or misleading information, the exemption is void ab initio. Petitions to revoke the exemption under 49 U.S.C. 10502(d) may be filed at any time. The filing of a petition to revoke will not automatically stay the transaction. Petitions to stay must be filed no later than April 19, 2007 (at least 7 days before the exemption becomes effective.

An original and 10 copies of all pleadings, referring to STB Finance Docket No. 35009, must be filed with the Surface Transportation Board, 395 E Street, SW., Washington, DC 20423-0001. In addition, a copy of each pleading must be served on Karl Morell, Of Counsel, Ball Janik LLP, 1455 F Street, NW., Suite 225, Washington, DC 20005.

Board decisions and notices are available on our Web site at http://www.stb.dot.gov.

Decided: April 2, 2007.
By the Board, David M. Konschnik, Director, Office of Proceedings.
Vernon A. Williams,
Secretary.

[FR Doc. E7-6614 Filed 4-11-07; 8:45 am]

BILLING CODE 4915-01-P